NUCLEAR REGULATORY COMMISSION

[NRC-2018-0088]

Bi-Weekly Public Information Sessions; National Industrial Security Program Operations Manual Insider Threat Program and Security Executive Agent Directive 3

AGENCY: Nuclear Regulatory Commission.

ACTION: Public meeting.

SUMMARY: The U.S. Nuclear Regulatory Commission (NRC) staff plans to hold a series of bi-weekly public meetings, to provide industry and affected individuals with the opportunity to interface with the NRC regarding the National Industrial Security Program Operating Manual (NISPOM) Insider Threat Program (ITP) Change 2 and the Office of the Director of National Intelligence (ODNI) Security Executive Agent Directive 3 (SEAD 3) implementation requirements.

DATES: The upcoming bi-weekly public meetings will be held on the following dates: Wednesday, May 2, 2018; Wednesday, May 16, 2018; Wednesday, May 30, 2018; and Wednesday, June 13, 2018. See section II, “Public Meeting,” of this document for more information.

ADDRESSES: Please refer to Docket ID NRC-2018-0088 when contacting the NRC about the availability of information regarding this document. You may obtain publicly-available information related to this document using any of the following methods:

• Federal Rulemaking website: Go to http://www.regulations.gov and search for Docket ID NRC-2018-0088. Address questions about NRC dockets to Jennifer Borges; telephone: 301-287-9127; email: Jennifer.Borges@nrc.gov. For technical questions, contact the individual listed in the FOR FURTHER INFORMATION CONTACT section of this document.

• NRC's Agencywide Documents Access and Management System (ADAMS): You may obtain publicly-available documents online in the ADAMS Public Documents collection at http://www.nrc.gov/reading-rm/adams.html. To begin the search, select “ADAMS Public Documents” and then select “Begin Web-based ADAMS Search.” For problems with ADAMS, please contact the NRC's Public Document Room (PDR) reference staff at 1-800-397-4209, 301-415-4737, or by email to pdr.resource@nrc.gov. The ADAMS accession number for each document referenced (if it is available in ADAMS) is provided the first time that it is mentioned in this document.

• NRC's PDR: You may examine and purchase copies of public documents at the NRC's PDR, Room O1-F21, One White Flint North, 11555 Rockville Pike, Rockville, Maryland 20852.

FOR FURTHER INFORMATION CONTACT: Alicia Williamson, Office of Nuclear Security and Incident Response, U.S. Nuclear Regulatory Commission, Washington, DC 20555-0001; telephone: 301-415-1878, email: Alicia.Williamson@nrc.gov.

SUPPLEMENTARY INFORMATION:

I. Background

Executive Order 13587, “Structural Reforms to Improve the Security of Classified Networks and the Responsible Sharing and Safeguarding of Classified Information,” was adopted by the National Industrial Security Program (NISP) to cover all contractors and licensees who have exposure to classified information.¹ Issued on May 18, 2016, the NISPOM Change 2 describes development and implementation of an ITP.² The NRC licensees who hold a possessing or non-possessing facility clearance are covered under the NISPOM ITP.

¹ Executive Order 13587, “Structural Reforms to Improve the Security of Classified Networks and the Responsible Sharing and Safeguarding of Classified Information.” Found at: (https://obamawhitehouse.archives.gov/the-press-office/2011/10/07/executive-order-13587-structural-reforms-improve-security-classified-net).

² National Industrial Security Program Operating Manual (NISPOM). Found at: (http://www.esd.whs.mil/Portals/54/Documents/DD/issuances/dodm/522022M.pdf).

In December 2016, the ODNI issued SEAD 3, “Reporting Requirements for Personnel with Access to Classified information or Hold a Sensitive Position,” to executive branch agencies and covered individuals.³ These individuals include NRC employees, contractors, licensees, licensees' contractors, and other individuals whom NRC has granted national security clearances. The NRC staff previously held two public meetings on the NISPOM ITP and SEAD 3 requirements on February 21, 2018, and March 12, 2018. The meeting summaries for each public meeting can be found in ADAMS under Accession Numbers ML18081A251 and ML18088A077, respectively.

³ Office of the Director of National Intelligence (ODNI) Security Executive Agent Directive 3 (SEAD 3). Found at: (https://www.dni.gov/files/NCSC/documents/Regulations/SEAD-3-Reporting-U.pdf).

II. Public Meeting

The “Bi-Weekly NRC Public Information Sessions on Insider Threat Program and Security Executive Agent Directive 3,” are Category 2 meetings and will be bi-weekly held from Wednesday, May 16, 2018, until Wednesday, June13, 2018. The public is invited to participate in these meetings by discussing regulatory issues with the NRC at designated points identified on the agendas. Each session will occur from 2:30 p.m. to 3:30 p.m. (EST). Interested stakeholders may participate by Webinar and teleconference. The webinar link is: https://global.gotomeeting.com/join/194862901. The conference call number is 1-877-620-1428, Passcode: 99851. The Webinar link and conference call number will remain the same for all meetings. Please check the NRC's Public Meeting website, https://www.nrc.gov/pmns/mtg for updates or cancellations or contact the individual listed in the FOR FURTHER INFORMATION CONTACT section of this document.

Dated at Rockville, Maryland, this 27th day of April, 2018.
For the Nuclear Regulatory Commission.
Marissa Bailey,
Director, Division of Security Operations, Office of Nuclear Security and Incident Response.

[FR Doc. 2018-09349 Filed 5-2-18; 8:45 am]

BILLING CODE 7590-01-P